DEPARTMENT OF HEALTH AND HUMAN SERVICES

Health Resources and Services Administration

Advisory Committee on Interdisciplinary, Community-Based Linkages; Notice of Meeting

In accordance with section 10(a)(2) of the Federal Committee Act, (Public Law 92-463), notice is hereby given of the following advisory committee meeting. The meeting is open to the public.

Name: Advisory Committee on Interdisciplinary Community-Based Linkages.

Date and Time: October 3, 2002, 8 a.m.-5:30 p.m.; October 4, 2002, 8:30 a.m.-3 p.m.

Place: The Doubletree Hotel, 1750 Rockville Pike, Rockville, Maryland 20852.

Agenda: Agenda items will include, but not be limited to: Welcome; plenary session on the role of the Health Resources and Services Administration, Bureau of Health Professions, in meeting Public Health Preparedness objectives; education and training related to bioterrorism; presentations by speakers representing: The Division of State, Community and Public Health, Bureau of Health Professions; and committee members. Meeting content will address preparation of the Committee's annual report and policy recommendations to the Secretary and the Congress and development of a fiscal year 2003 action agenda. Proposed agenda items are subject to change as priorities dictate.

Public Comments: Public comment will be permitted before lunch and at the end of the meeting on October 3, 2002. Oral presentations will be limited to 5 minutes per public speaker. Persons interested in providing an oral presentation should submit a written request, with a copy of their presentation to: Bernice A. Parlak, Executive Secretary, Division of State, Community and Public Health, Bureau of Health Professions, Health Resources and Services Administration, Room 9-105, 5600 Fishers Lane, Rockville, Maryland 20857, Telephone (301) 443-1898.

Requests should contain the name, address, telephone number, and any business or professional affiliation of the person desiring to make an oral presentation. Groups having similar interests are requested to combine their comments and present them through a single representative. The Division of State, Community and Public Health will notify each presenter by mail or telephone of their assigned presentation time.

Persons who do not file a request in advance for a presentation, but wish to make an oral statement may register to do so at the Doubletree Hotel, Rockville, Maryland, on October 3, 2002. These persons will be allocated time as the Committee meeting agenda permits.

For Further Information Contact: Anyone requiring information regarding the Committee should contact Bernice A. Parlak, Division of State, Community and Public Health, Bureau of Health Professions, Health Resources and Services Administration, Room 9-105, 5600 Fishers Lane, Rockville, Maryland 20867, Telephone (301) 443-1898.

Dated: September 19, 2002.
Jane M. Harrison,
Director, Division of Policy Review and Coordination.

[FR Doc. 02-24732 Filed 9-27-02; 8:45 am]

BILLING CODE 4165-15-M